DEPARTMENT OF THE INTERIOR

Bureau of Land Management

[HE-952-9911-EK]

Extension of Approved Information Collection, OMB Control Number 1004-0179

AGENCY: Bureau of Land Management, Interior.

ACTION: Notice and request for comments.

SUMMARY: In accordance with the Paperwork Reduction Act of 1995, the Bureau of Land Management (BLM) is requesting the Office of Management and Budget (OMB) to extend an existing approval to collect helium sales information from Federal agencies and helium suppliers. BLM uses the In-Kind Crude Helium Sales Contract and nonform information from the regulations at 43 CFR 3195 to collect this information. This information allows BLM to monitor reporting and recordkeeping of crude helium sales and purchases.

DATES: You must submit your comments to BLM at the address below on or before May 6, 2003. BLM will not necessarily consider any comments received after the above date.

ADDRESSES: You may mail comments to: Bureau of Land Management, (WO-630), Eastern States Office, 7450 Boston Blvd., Springfield, Virginia 22153.

You may send comments via Internet to: WOComment@blm.gov. Please include “ATTN: 1004-0179” and your name and return address in your Internet message.

You may deliver comments to the Bureau of Land Management, Administrative Record, Room 401, 1620 L Street, NW., Washington, DC 20036.

All comments will be available for public review at the L Street address during regular business hours (7:45 a.m. to 4:15 p.m., Monday through Friday).

FOR FURTHER INFORMATION CONTACT: You may contact Connie H. Neeley, Crude Helium Sales Analyst, on (806) 324-2635 (Commercial or FTS). Persons who use a telecommunications device for the deaf (TDD) may call the Federal Information Relay Service on 1-800-877-8330, 24 hours a day, seven days a week, to contact Ms. Neely.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the burden of the collection of information on those who are to respond, including the use of appropriate automated, electronic, mechanical, or other technological collection techniques or other forms of information technology.

The Helium Privatization Act of 1996 requires the Department of Defense, the Atomic Energy Commission, the National Aeronautics and Space Administration, and other Federal agencies to purchase major helium requirements from authorized contractors. These contractors must purchase an equivalent amount of crude helium from the Department of the Interior, Bureau of Land Management.

The In-Kind Crude Helium Sales Contract requires that contract holders supply the following information to BLM:

(A) Section 3.3 asks for reporting each quarter the deliveries made of refined helium. The section refers to Addendum B of the contract, which specifies providing the following:

(1) Company name;

(2) Address and contract number;

(3) Name of the Federal agency to which helium sold;

(4) Date of delivery;

(5) Sale reference number;

(6) Location of helium use;

(7) Volume; and

(8) Units of helium sold during the itemized sales for the quarterly report.

BLM uses this information to track sales of refined helium and to determine the use of the helium.

(B) Section 3.5 requires helium suppliers to notify BLM 14 days in advance of needing Federal helium in order to provide BLM sufficient time to deliver the helium.

(C) Section 3.7 requires contractors to keep available for BLM inspection all pertinent documents and records. We use this information to audit the contractors and to determine whether or not helium sales were reported accurately.

(D) Section 7.4 prohibits assigning the contract to another contractor without BLM's prior approval.

BLM also requires the following nonform information at 43 CFR 3195:

(A) Federal helium suppliers and buyers must report the total itemized quarterly deliveries of helium within 45 calendar days after the end of the previous quarter.

(B) Federal helium suppliers must report the annual cumulative helium delivery report by November 15 of each year.

(C) The name of the company from which you purchased helium.

(D) The amount of helium you purchased and the date it was delivered.

(E) The helium use location.

Based on our experience administering the activities described above, we estimate the public reporting burden is one hour for the contract and two hours for the nonform quarterly helium sales reports at 43 CFR 3195. We estimate 76 respondents will submit a contract once and quarterly provide helium sales information. We estimate 380 responses per year and a total annual burden of 684 hours as indicated in the table below:

Requirement | Hours per responses | Number of responses | Burden hours
In-kind crude helium sales contract | 1 | 76 | 76
Helium sales information | 2 | 304 | 608
Total |  | 380 | 684

We will summarize all responses to this notice and send them to OMB when we request approval. All comments will become a matter of public record.

Dated: March 3, 2003.
Michael H. Schwartz,
Bureau of Land Management, Information Collection Clearance Officer.

[FR Doc. 03-5386 Filed 3-6-03; 8:45 am]

BILLING CODE 4310-84-M